DEPARTMENT OF VETERANS AFFAIRS

[OMB Control No. 2900-0922]

Agency Information Collection Activity Under OMB Review: IBM Skillsbuild Training Program Application—Pilot Program

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0922.”

FOR FURTHER INFORMATION CONTACT: Maribel Aponte, Office of Enterprise and Integration, Data Governance Analytics (008), 810 Vermont Ave. NW, Washington, DC 20420, (202) 266-4688 or email Maribel.aponte@va.gov. Please refer to “OMB Control No. 2900-0922” in any correspondence.

SUPPLEMENTARY INFORMATION:

Authority: White House Cyber Initiative, as supported by VA Principal Deputy Under Secretary for VA Benefits, Mr. Michael Frueh.

Title: IBM Skillsbuild Training Program Application—Pilot Program, VAF 22-10282.

OMB Control Number: 2900-0922.

Type of Review: Extension of a previously approved collection.

Abstract: The IBM SkillsBuild Program is an IBM-sponsored pilot training program administered by VA to provide free virtual Information Technology (IT) training. SkillsBuild is a free online learning platform that provides adult learners with the opportunity to gain or improve IT skills that meet the needs of employers in the High-Technology industry. VA will provide the opportunity for Veterans, Service members, spouse, children, and caregivers to access free, self-paced, virtual training and credentials in Cybersecurity and Data Analytics. This virtual training in the field of Cybersecurity and Data Analytics is an enhanced resource for Veterans and transitioning Service members who are seeking job training and credentials to pursue a career in Technology. The IBM Skillsbuild Training Program Application (Intake Form), VA Form 22-10282 will allow eligible candidates to register and apply on a first-come, first-served basis to participate in the program, and the form will be sent via Email to Vettecpartner@va.gov., for processing.

An agency may not conduct or sponsor, and a person is not required to respond to a collection of information unless it displays a currently valid OMB control number. The Federal Register Notice with a 60-day comment period soliciting comments on this collection of information was published at 88 FR 34930 on May 31, 2023, page(s) 34930-34931.

Affected Public: Individuals and Households.

Estimated Annual Burden: 100 hours.

Estimated Average Burden Time per Respondent: 10 minutes.

Frequency of Response: Once.

Estimated Number of Respondents: 600.

By direction of the Secretary.
Maribel Aponte,
VA PRA Clearance Officer, Office of Enterprise and Integration, Data Governance Analytics, Department of Veterans Affairs.

[FR Doc. 2023-16995 Filed 8-8-23; 8:45 am]

BILLING CODE 8320-01-P